DEPARTMENT OF DEFENSE

Defense Acquisition Regulations System

48 CFR Parts 204 and 217

RIN 0750-AG05

Defense Federal Acquisition Regulation Supplement; Clarification of Central Contractor Registration and Procurement Instrument Identification Data Requirements (DFARS Case 2008-D010)

AGENCY: Defense Acquisition Regulations System, Department of Defense (DoD).

ACTION: Proposed rule with request for comments.

SUMMARY: DoD is proposing to amend the Defense Federal Acquisition Regulation Supplement (DFARS) to address requirements for ensuring the accuracy of contractor information in the Central Contractor Registration (CCR) database and in contract documents. Additionally, the proposed rule clarifies requirements for proper assignment of procurement instrument identification numbers.

DATES: Comments on the proposed rule should be submitted in writing to the address shown below on or before December 19, 2008, to be considered in the formation of the final rule.

ADDRESSES: You may submit comments, identified by DFARS Case 2008-D010, using any of the following methods:

Federal eRulemaking Portal: http://www.regulations.gov. Follow the instructions for submitting comments.

E-mail: dfars@osd.mil. Include DFARS Case 2008-D010 in the subject line of the message.

Fax: 703-602-7887.

Mail: Defense Acquisition Regulations System, Attn: Mr. Julian Thrash, OUSD (AT&L) DPAP (DARS), IMD 3D139, 3062 Defense Pentagon, Washington, DC 20301-3062.

Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Julian Thrash, 703-602-0310.

SUPPLEMENTARY INFORMATION:

A. Background

This proposed rule reinforces requirements for use and maintenance of accurate contractor information, to permit proper identification and tracking of contract data through DoD's business processes. The proposed changes address requirements for—

• Ensuring that contract documents contain contractor information that is accurate and consistent with the information in the CCR database;

• Confirming the accuracy of a contractor's CCR information before exercising a contract option; and

• Proper assignment of procurement instrument identification numbers.

This rule was subject to Office of Management and Budget review under Executive Order 12866, dated September 30, 1993.

B. Regulatory Flexibility Act

DoD does not expect this proposed rule to have a significant economic impact on a substantial number of small entities within the meaning of the Regulatory Flexibility Act, 5 U.S.C. 601, et seq., because the proposed rule reinforces existing requirements for accuracy of contract information. Therefore, DoD has not performed an initial regulatory flexibility analysis. DoD invites comments from small businesses and other interested parties. DoD also will consider comments from small entities concerning the affected DFARS subparts in accordance with 5 U.S.C. 610. Such comments should be submitted separately and should cite DFARS Case 2008-D010.

C. Paperwork Reduction Act

The Paperwork Reduction Act does not apply, because the proposed rule does not impose any information collection requirements that require the approval of the Office of Management and Budget under 44 U.S.C. 3501, et seq.

List of Subjects in 48 CFR Parts 204 and 217

Government procurement.

Michele P. Peterson,
Editor, Defense Acquisition Regulations System.

Therefore, DoD proposes to amend 48 CFR Parts 204 and 217 as follows:

1. The authority citation for 48 CFR Parts 204 and 217 continues to read as follows:

Authority: 41 U.S.C. 421 and 48 CFR Chapter 1.

PART 204—ADMINISTRATIVE MATTERS

2. Section 204.1103 is amended by redesignating paragraph (e) as paragraph (3), and by adding new paragraphs (1) and (2) to read as follows:

204.1103 Procedures.

(1) When making a determination to exercise an option, or at any other time, if the contractor is no longer registered in the Central Contractor Registration (CCR) database or if the information in the CCR database is no longer current or consistent with an applicable contract document—

(i) Confirm the accuracy of the information in the CCR database; and

(ii)(A) If the information in the CCR database is current, accurate, and complete, modify contract documents as necessary; or

(B) If the information in the CCR database is not current, accurate, and complete, exercise the option or issue the applicable contract modification as soon as practicable after the contractor has updated its registration information.

(2) On contract award documents, use the contractor's legal or “doing business as” name and address information as recorded in the CCR database at the time of award. Modifications for novations, name changes, or address changes shall reflect the information recorded in the CCR database at the time the modification is issued. See PGI 204.1103 for additional requirements relating to use of information in the CCR database.

* * * * *

3. Section 204.7003 is amended by revising paragraphs (a)(2), (a)(3)(iii), (a)(3)(viii), and (b) to read as follows:

204.7003 Basic PII number.

(a) * * *

(2) Positions 7 through 8. The seventh and eighth positions are the last two digits of the fiscal year in which the contract instrument is awarded.

(3) * * *

(iii) Contracts of all types except indefinite delivery contracts, facilities contracts, sales contracts, and contracts placed with or through other Government departments or agencies or against contracts placed by such departments or agencies outside the DoD. Do not use this code for contracts or agreements with provisions for orders or calls-C.

* * * * *

(viii) Agreements, including basic agreements and loan agreements, but excluding blanket purchase agreements, basic ordering agreements, and leases. Do not use this code for contracts or agreements with provisions for orders or calls-H.

* * * * *

(b) Illustration of PII number. The following illustrates a properly configured PII number—

PART 217—SPECIAL CONTRACTING METHODS

4. Section 217.207 is added to read as follows:

217.207 Exercise of options.

(c) In addition to the requirements at FAR 17.207(c), exercise an option only after determining that the contractor's information in the Central Contractor Registration database is current, accurate, and complete and is accurately reflected in the contract document.

[FR Doc. E8-24486 Filed 10-17-08; 8:45 am]

BILLING CODE 5001-08-P